DEPARTMENT OF THE INTERIOR

Bureau of Land Management

[AK-962-1410-HY-P; AA-16670; CIA-7]

Alaska Native Claims Selection

AGENCY: Bureau of Land Management, Interior.

ACTION: Notice of decision approving lands for conveyance.

SUMMARY: As required by 43 CFR 2650.7(d), notice is hereby given that an appealable decision approving coal, oil, and gas for conveyance pursuant to the Alaska Native Claims Settlement Act, the Act of January 2, 1976, and the Terms and Conditions for Land Consolidation and Management in the Cook Inlet Area, as clarified August 31, 1976, will be issued to Cook Inlet Region, Inc. The lands are located in Tps. 8 and 9 N., R. 8 W., and T. 3 N., R. 11 W., Seward Meridian, Alaska, and aggregate approximately 17,156 acres. Notice of the decision will also be published four times in the Anchorage Daily News.

DATES: The time limits for filing an appeal are:

1. Any party claiming a property interest which is adversely affected by the decision shall have until August 28, 2003, to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7599.

FOR FURTHER INFORMATION CONTACT: Christy Favorite by phone at 907-271-5656, or by e-mail at cfavorit@ak.blm.gov.

Christy Favorite,
Land Law Examiner, Branch of ANCSA Adjudication.

[FR Doc. 03-19203 Filed 7-28-03; 8:45 am]

BILLING CODE 4310-$$-P